DEPARTMENT OF COMMERCE

National Institute of Standards and Technology

[Docket No.: 030416088-3088-01]

Request for Technical Input—Standards in Trade Workshops

AGENCY: National Institute of Standards and Technology, Department of Commerce.

ACTION: Request for workshop recommendations.

SUMMARY: The National Institute of Standards and Technology (NIST) invites interested parties to submit recommendations for workshops covering specific sectors and targeted countries or regions of the world where training in the U.S. system of standards development, conformity assessment, and metrology may facilitate trade. Prospective workshops may be scheduled for one or two week periods. This notice is not an invitation for proposals to fund grants, contracts or cooperative agreements of any kind. Because there are a limited number of workshops that NIST can offer and NIST has limited resources, NIST will consider recommendations in the context of which workshops would be most useful to intended audiences. Additional information about the NIST Standards in Trade Workshops is available at http://ts.nist.gov/ts/htdocs/210/gsig/sitdescr.htm.

DATES: All recommendations must be submitted no later than June 15, 2003.

FOR FURTHER INFORMATION CONTACT: Libby Parker (301) 975-3089, libby.parker@nist.gov. Additional information about the NIST Standards in Trade workshops, to include schedules and summary reports for workshops held to date and participant information, is available at http://ts.nist.gov/ts/htdocs/210/gsig/sitdescr.htm.

SUPPLEMENTARY INFORMATION: The Standards in Trade Workshops are a major activity of the Global Standards and Information Group (GSIG) in the NIST Standards Services Division (SSD). The workshops are designed to provide timely information to foreign standards officials on U.S. practices in standards and conformity assessment. Participants are introduced to U.S. technology and principles in metrology, standards development and application, and conformity assessment systems.

Each workshop is a one or two week program offering a comprehensive overview of the roles of the U.S. Government, private sector, and regional and international organizations engaged in standards development and conformity assessment practices. Specific workshop objectives are to: (1) Familiarize participants with U.S. technology and practices in metrology, standardization, and conformity assessment; (2) describe and understand the roles of the U.S. Government and the private sector in developing and implementing standards; and (3) develop professional contacts as a basis for strengthening technical ties and enhancing trade. Workshop recommendations (maximum 4 pages) will address at a minimum the following points:

1. Name and Description of the Recommending Organization;

2. Point of Contact;

3. Industry Sector for Workshop Focus;

4. Calendar Dates and Duration Suggested for Workshop;

5. Workshop Objectives;

6. Anticipated Benefit for Trade and Market Access;

7. Proposed Foreign Participants:

a. Country or region;

b. Types of organizations.

8. U.S. Stakeholder Participants (e.g., Associations, Agencies, Users, others);

9. Principal Topics and Recommended Speakers;

10. Related Site Visits and Events;

11. Expected Outcomes/Measures of Success.

All recommendations must be submitted no later than June 15, 2003.

Dated: April 28, 2003.
Karen H. Brown,
Deputy Director.

[FR Doc. 03-10921 Filed 5-1-03; 8:45 am]

BILLING CODE 3510-13-P